DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas:
Crawford, (FEMA Docket No.: B-7467) | City of Van Buren (05-06-A486P) | May 17, 2006; May 24, 2006; Press Argus-Courier | The Honorable John Riggs, Mayor, City of Van Buren, 1003 Broadway, Van Buren, Arkansas 72956 | April 27, 2006 | 050053
Pulaski, (FEMA Docket No.: B-7467) | City of Jacksonville (05-06-1464P) | December 21, 2005; December 28, 2005; Jacksonville Patriot | The Honorable Tommy Swaim, Mayor, City of Jacksonville, One Municipal Drive, Jacksonville, Arkansas 72076 | March 29, 2006 | 050180
Pulaski, (FEMA Docket No.: B-7467) | City of North Little Rock (05-06-1777P) | April 13, 2006; April 20, 2006; North Little Rock Times | The Honorable Patrick H. Hays, Mayor, City of North Little Rock, 300 Main Street, North Little Rock, Arkansas 72114 | July 20, 2006 | 050182
Pulaski, (FEMA Docket No.: B-7467) | Unincorporated Areas of Pulaski County (05-06-1777P) | April 13, 2006; April 20, 2006; North Little Rock Times | The Honorable Floyd G. Villines, Pulaski County Judge, Pulaski County Courthouse, 201 South Broadway, Little Rock, Arkansas 72201 | July 20, 2006 | 050179
Arizona:
Maricopa, (FEMA Docket No.: B-7467) | City of Glendale (06-09-B380P) | July 20, 2006; July 27, 2006; Arizona Business Gazette | The Honorable Elaine Scrugss, Mayor, City of Glendale, 5850 West Glendale Avenue, Glendale, Arizona 85301 | October 26, 2006 | 040045
Maricopa, (FEMA Docket No.: B-7467) | City of Goodyear (05-09-0791P) | June 15, 2006; June 22, 2006; Arizona Business Gazette | The Honorable Jim Cavanaugh, Mayor, City of Goodyear, 190 North Litchfield Road, Goodyear, Arizona 85338 | June 30, 2006 | 040046
Maricopa, (FEMA Docket No.: B-7467) | City of Litchfield Park (05-09-0791P) | June 15, 2006; June 22, 2006; Arizona Business Gazette | The Honorable J. Woodfin Thomas, Mayor, City of Litchfield Park, 214 West Wigman Boulevard, Litchfield Park, Arizona 85340 | June 30, 2006 | 040128
Maricopa, (FEMA Docket No.: B-7467) | City of Peoria (06-09-B380P) | July 20, 2006; July 27, 2006; Arizona Business Gazette | The Honorable John Keegan, Mayor, City of Peoria, 8410 West Monroe Street, Peoria, Arizona 85345 | October 26, 2006 | 040050
Connecticut:
Fairfield, (FEMA Docket No.: B-7467) | Town of Greenwich (05-01-0751P) | February 16, 2006; February 23, 2006; The Greenwich Time | Mr. Jim Lash, First Selectman, Town of Greenwich, Town Hall, First Floor, 101 Field Point Road, Greenwich, Connecticut 06830 | May 25, 2006 | 090008
New Haven, (FEMA Docket No.: B-7467) | Town of Madison (05-01-0798P) | August 24, 2006; August 31, 2006; New Haven Register | The Honorable Thomas S. Scarpati, Selectman, Town of Madison, Town Hall, 8 Campus Drive, Madison, Connecticut 06443 | June 30, 2006 | 090079
Delaware:
New Castle, (FEMA Docket No.: B-7467) | Unincorporated Areas of New Castle County (05-03-0432P) | July 27, 2006; August 3, 2006; The News Journal | The Honorable Christopher A. Coons, New Castle County Executive, New Castle County Government Center, 87 Reads Way, New Castle, Delaware 19720 | November 2, 2006 | 105085
New Castle, (FEMA Docket No.: B-7467) | Unincorporated Areas of New Castle County (05-03-0872P) | August 24, 2006; August 31, 2006; The News Journal | The Honorable Christopher A. Coons, New Castle County Executive, New Castle County Government Center, 87 Reads Way, New Castle, Delaware 19720 | November 30, 2006 | 105085
New Castle, (FEMA Docket No.: B-7467) | Unincorporated Areas of New Castle County (05-03-0955P) | June 22, 2006; June 29, 2006; The News Journal | The Honorable Christopher A. Coons, New Castle County Executive, New Castle County Government Center, 87 Reads Way, New Castle, Delaware 19720 | September 28, 2006 | 105085
New Castle, (FEMA Docket No.: B-7467) | Unincorporated Areas of New Castle County (05-03-1010P) | April 14, 2006; April 21, 2006; Newark Post | The Honorable Christopher A. Coons, New Castle County Executive, New Castle County Gov't Center, 87 Reads Way, New Castle, Delaware 19720 | March 28, 2006 | 105085
Sussex, (FEMA Docket No.: B-7467) | Town of Dagsboro (05-03-0353P) | December 28, 2005; January 4, 2006; Delaware Wave | The Honorable Brad Conner, Mayor, Town of Dagsboro, P.O. Box 420, Dagsboro, Delaware 19939 | April 5, 2006 | 100033
Sussex, (FEMA Docket No.: B-7467) | Unincorporated Areas of Sussex County (05-03-0353P) | December 28, 2005; January 4, 2006; Delaware Wave | Mr. Robert L. Stickels, County Administrator, Sussex County, P.O. Box 589, Georgetown, Delaware 19947 | April 5, 2006 | 100029
Florida:
Duvall, (FEMA Docket No.: B-7703) | City of Jacksonville (06-04-BL18P) | November 20, 2006; November 27, 2006; Jacksonville Daily Record | The Honorable John Peyton, Mayor, City of Jacksonville, 117 West Duval Street, Jacksonville, Florida 32202 | October 31, 2006 | 120077
Duvall, (FEMA Docket No.: B-7703) | City of Jacksonville (06-04-BL19P) | November 27, 2006; December 4, 2006; Jacksonville Daily Record | The Honorable John Peyton, Mayor, City of Jacksonville, City Hall at St. James, Fourth Floor, 117 West Duval Street, Jacksonville, Florida 32202 | December 1, 2006 | 120077
Idaho:
Canyon, (FEMA Docket No.: B-7467) | Unincorporated Areas of Canyon County (05-10-0594P) | April 20, 2006; April 27, 2006; Idaho Press-Tribune | The Honorable Matt Beebe, Chairman, Canyon County, Board of Commissioners, 1115 Albany Street, Caldwell, Idaho 83605 | July 27, 2006 | 160208
Caribou, (FEMA Docket No.: B-7467) | City of Bancroft (06-10-B109P) | June 22, 2006; June 29, 2006; Caribou County Sun | The Honorable William Lester, Mayor, City of Bancroft, P.O. Box 549, Bancroft, Idaho 83217 | May 31, 2006 | 160040
Louisiana:
St. Tammany Parish, (FEMA Docket No.: B-7467) | St. Tammany Parish (06-06-BA65P) | August 2, 2006; August 9, 2006; St. Tammany News | The Honorable Kevin Davis, Parish President, St. Tammany Parish, P.O. Box 628, Covington, Louisiana 70434 | November 8, 2006 | 225205
St. Tammany Parish, (FEMA Docket No.: B-7467) | St. Tammany Parish (06-06-BD86P) | September 13, 2006; September 20, 2006; St. Tammany News | The Honorable Kevin Davis, Parish President, St. Tammany Parish, P.O. Box 628, Covington, Louisiana 70434 | August 25, 2006 | 225205
Maine:
Cumberland, (FEMA Docket No.: B-7467) | City of Falmouth (06-01-B534P) | August 17, 2006; August 24, 2006; Falmouth Community Leader | Mr. John D. Harris, Town Manager, Town of Falmouth, 271 Falmouth Road, Falmouth, Maine 04105 | November 23, 2006 | 230045
Cumberland, (FEMA Docket No.: B-7467) | Town of Harpswell (05-01-B113P) | June 15, 2006; June 22, 2006; Portland Press Herald | The Honorable Gordon L. Weil, Chair, Board of Selectmen, Town of Harpswell, P.O. Box 39, Harpswell, Maine 04079 | May 25, 2006 | 230169
Cumberland, (FEMA Docket No.: B-7467) | Town of Standish (05-01-A566P) | May 11, 2006; May 18, 2006; Portland Press Herald | Mr. Gordon F. Billington, Town Manager, Town of Standish, 175 Northeast Road, Standish, Maine 04084 | August 17, 2006 | 230207
Washington, (FEMA Docket No.: B-7467) | Town of Milbridge (05-01-0691P) | May 11, 2006; May 18, 2006; Bangor Daily News | Mr. Fred Ventresco, Town Manager, Town of Milbridge, P.O. Box 66, Milbridge, Maine 04658, | April 24, 2006, | 230142
York, (FEMA Docket No.: B-7467) | Town of Alfred (05-01-B101X) | February 23, 2006; March 2, 2006; York County Coast Star | The Honorable John Sylvestor, Chair, Board of Selectman, Town of Alfred, P.O. Box 667, Alfred, Maine 04002 | June 1, 2006 | 230191
York, (FEMA Docket No.: B-7467) | Town of Lyman (05-01-B101X) | February 23, 2006; March 2, 2006; York County Coast Star | The Honorable Norman Hutchins, Chair, Board of Selectman, Town of Lyman, 11 South Waterboro Road, Lyman, Maine 04002 | June 1, 2006 | 230195
Maryland:
Carroll, (FEMA Docket No.: B-7467) | Unincorporated Areas of Carroll County (05-03-0321P) | August 31, 2006; September 7, 2006; Carroll County Times | The Honorable Julia W. Gouge, President, Carroll County, Board of Commissioners, 225 North Center Street, Westminster, Maryland 21157 | December 7, 2006 | 240015
Frederick, (FEMA Docket No.: B-7467) | City of Frederick (05-03-0831P) | June 14, 2006; June 21, 2006; The Frederick News Post | The Honorable William J. Holtzinger, Mayor, City of Frederick, City Hall, 101 North Court Street, Frederick, Maryland 21701-5415 | September 21, 2006 | 240030
Frederick, (FEMA Docket No.: B-7467) | Unincorporated Areas of Frederick County (05-03-0831P) | June 14, 2006; June 21, 2006; The Frederick News Post | The Honorable John L. Thompson, President, Frederick County, Board of Commissioners, 12 East Church Street, Frederick, Maryland 21701 | September 21, 2006 | 240027
Massachusetts:
Barnstable, (FEMA Docket No.: B-7467) | Town of Barnstable (05-01-0764P) | March 30, 2006; April 6, 2006; Cape Cod Times | Mr. John C. Klimm, Town Manager, Town of Barnstable, Barnstable Town Hall, 369 Main Street, Hyannis, Massachusetts 02601 | March 14, 2006 | 250001
Barnstable, (FEMA Docket No.: B-7467) | Town of Bourne (05-01-A062P) | May 25, 2006; June 1, 2006; Cape Cod Times | Mr. Thomas Guerino, Town Administrator, Town of Bourne, Town Hall, 24 Perry Avenue, Bourne, Massachusetts 02532 | August 31, 2006 | 255210
Barnstable, (FEMA Docket No.: B-7467) | Town of Provincetown (05-01-0580P) | May 11, 2006; May 18, 2006; Cape Cod Times | Mr. Keith A. Bergman, Town Manager, Town of Provincetown, Provincetown Town Hall, 260 Commercial Street, Provincetown, Massachusetts 02657 | April 24, 2006 | 255218
Plymouth, (FEMA Docket No.: B-7467) | Town of Duxbury (05-01-0410P) | December 1, 2005; December 8, 2005; The Enterprise | The Honorable John J. Tuffy, Chairman, Board of Selectman, Town of Duxbury, Town Hall, 878 Tremont Street, Duxbury, Massachusetts 02332 | November 7, 2005 | 250263
Worcester, (FEMA Docket No.: B-7467) | Town of Milford (05-01-0129P) | December 8, 2005; December 15, 2005; Milford Daily News | The Honorable Dino B. DeBartolomeis, Chairman, Board of Selectman, Town of Milford, 52 Main Street, Milford, Massachusetts 01757 | December 21, 2005 | 250317
Mississippi:
Rankin, (FEMA Docket No.: B-7467) | City of Brandon (06-04-B977P) | August 16, 2006; August 23, 2006; Rankin County News | The Honorable Carlo Martella, Mayor, City of Brandon, P.O. Box 1539, Brandon, Mississippi 39043 | November 22, 2006 | 280143
Rankin, (FEMA Docket No.: B-7474) | City of Pearl (06-04-B935P) | September 20, 2006; September 27, 2006; Rankin County News | The Honorable Jimmy Foster, Mayor, City of Pearl, 2420 Old Brandon Rd, Pearl, Mississippi 39208 | December 27, 2006 | 280145
New Jersey:
Middlesex, (FEMA Docket No.: B-7466) | City of South Amboy (05-02-0716P) | April 12, 2006; April 19, 2006; Home News Tribune | The Honorable John T. O'Leary, Jr., Mayor, City of South Amboy, Municipal Building, 140 North Broadway, South Amboy, New Jersey 08879 | March 29, 2006 | 340277
Ocean, (FEMA Docket No.: B-7466) | Township of Jackson (04-02-A038P) | August 24, 2006; August 31, 2006; Ocean County Observer | The Honorable Mark A. Seda Mayor, Township of Jackson 95 West Veterans Highway Jackson, New Jersey 08527 | August 7, 2006 | 340375
Union, (FEMA Docket No.: B-7466) | Borough of Roselle Park (05-02-0038P) | January 26, 2006; February 2, 2006; Newark Star Ledger | The Honorable Joseph DeIorio, Mayor, Borough of Roselle Park, 110 East Westfield Avenue, Roselle, New Jersey 07204 | January 11, 2006 | 340473
New Mexico:
Bernalillo, (FEMA Docket No.: B-7466) | City of Albuquerque (06-06-BC48P) | August 17, 2006; August 24, 2006; Albuquerque Journal | The Honorable Martin J Chavez, Mayor, City of Albuquerque, P.O. Box 1293, Albuquerque, New Mexico 87103 | July 26, 2006 | 350002
Chaves, (FEMA Docket No.: B-7466) | City of Roswell (06-06-B752P) | June 22, 2006; June 29, 2006; Roswell Daily Record | The Honorable Sam D. LaGrone, Mayor, City of Roswell, P.O. Box 1838, Roswell, New Mexico 88202 | May 30, 2006 | 350006
Sandoval, (FEMA Docket No.: B-7466) | City of Rio Rancho (05-06-0661P) | November 28, 2005; November 30, 2005; Santa Fe New Mexican | The Honorable Jim Owen, Mayor, City of Rio Rancho, 3900 Southern Boulevard, Rio Rancho, New Mexico 87124 | November 14, 2005 | 350146
New York:
Orange, (FEMA Docket No.: B-7466) | Town of Wallkill (06-02-B016P) | July 27, 2006; August 3, 2006; Times Herald-Record | Mr. John Ward, Supervisor, Town of Wallkill, P.O. Box 398, Middletown, New York 10940 | June 30, 2006 | 360634
Oklahoma:
Oklahoma, (FEMA Docket No.: B-7466) | City of Edmond (05-06-1554P) | April 12, 2006; April 19, 2006; The Edmond Sun | The Honorable Saundra Naifeh, Mayor, City of Edmond, P.O. Box 2970, Edmond, Oklahoma 73083 | July 19, 2006 | 400252
Oklahoma, (FEMA Docket No.: B-7466) | City of Midwest (05-06-0976P) | August 23, 2006; August 30, 2006; The Sun | The Honorable Eddie Reed, Mayor, City of Midwest City, P.O. Box 10870, Midwest City, Oklahoma 73140 | August 28, 2006 | 400405
Pottawatomie, (FEMA Docket No.: B-7466) | City of Shawnee (06-06-B821P) | August 17, 2006; August 24, 2006; The Shawnee News-Star | The Honorable Chuck Mills, Mayor, City of Shawnee, P.O. Box 1448, Shawnee, Oklahoma 74802-1448 | July 31, 2006 | 400178
Tulsa, (FEMA Docket No.: B-7466) | City of Tulsa (05-06-A125P) | August 10, 2006; August 17, 2006; Tulsa World | The Honorable Kathy Taylor, Mayor, City of Tulsa, 200 Civic Center, Tulsa, Oklahoma 74103 | November 16, 2006 | 405381
Oregon:
Marion, (FEMA Docket No.: B-7466) | City of Stayton (03-10-0442P) | February 2, 2006; February 9, 2006; The Statesman Journal | The Honorable Gerry Aboud, Mayor, City of Stayton, 362 North Third Avenue, Stayton, Oregon 97383 | May 11, 2006 | 410170
Marion, (FEMA Docket No.: B-7466) | Unincorporated Areas of Marion County (03-10-0442P) | February 2, 2006; February 9, 2006; The Statesman Journal | The Honorable Sam Brentano, Chairman, Marion County, Board of Commissioners, P.O. Box 14500, Salem, Oregon 97309 | May 11, 2006 | 410154
Pennsylvania:
Berks, (FEMA Docket No.: B-7466) | Township of Longswamp (05-03-0239P) | March 2, 2006; March 9, 2006; Reading Eagle | The Honorable Donald C. Stegfried, Chairman, Longswamp Township, 1112 State Street, Mertztown, Pennsylvania 19539 | June 8, 2006 | 421380
Berks, (FEMA Docket No.: B-7466) | Township of Rockland (05-03-0239P) | March 2, 2006; March 9, 2006; Reading Eagle | The Honorable Russell W. Coffin, Chairman, Rockland Township, Board of Supervisors, P.O. Box 149, Bowers, Pennsylvania 19511 | June 8, 2006 | 421098
Puerto Rico, (FEMA Docket No.: B-7466) | Commonwealth of Puerto Rico (05-02-0270P) | August 17, 2006; August 24, 2006; The San Juan Star | The Honorable Anibal Acevedo-Vila, Governor of the Commonwealth of Puerto Rico, P.O. Box 82, La Fortaleza, San Juan, Puerto Rico 00901 | November 23, 2006 | 720000
Puerto Rico, (FEMA Docket No.: B-7466) | Commonwealth of Puerto Rico (05-02-0421P) | June 29, 2006; July 6, 2006; The San Juan Star | The Honorable Anibal Acevedo-Vila, Governor of the Commonwealth of Puerto Rico, P.O. Box 82, La Fortaleza, San Juan, Puerto Rico 00901 | October 5, 2006 | 720000
Rhode Island:
Washington, (FEMA Docket No.: B-7466) | Town of Westerly (05-01-A502P) | June 22, 2006; June 29, 2006; Westerly Sun | Mr. Joseph T. Turo, Esq., Town Manager, Town of Westerly, Town Hall, 45 Broad Street, Westerly, Rhode Island 02891 | May 25, 2006 | 445410
Texas:
Bexar, (FEMA Docket No.: B-7466) | City of San Antonio (05-06-0892P) | December 8, 2005; December 15, 2005; Austin American-Statesman | The Honorable Phil Hardberger, Mayor, City of San Antonio, P.O. Box 839966, San Antonio, Texas 78283-3966 | March 16, 2006 | 480045
Bexar, (FEMA Docket No.: B-7466) | City of San Antonio (05-06-1714P) | February 24, 2006; March 3, 2006; Daily Commercial Recorder | The Honorable Phil Hardberger, Mayor, City of San Antonio, P.O. Box 839966, San Antonio, Texas 78283 | June 1, 2006 | 480045
Bexar, (FEMA Docket No.: B-7466) | City of San Antonio (05-06-A206P) | April 27, 2006; May 5, 2006; Daily Commercial Recorder | The Honorable Phil Hardberger, Mayor, City of San Antonio, P.O. Box 839966, San Antonio, Texas 78283 | August 4, 2006 | 480045
Bexar, (FEMA Docket No.: B-7466) | Unincorporated Areas of Bexar County (05-06-A206P) | April 27, 2006; May 5, 2006; Daily Commercial Recorder | The Honorable Nelson W. Wolff, Bexar County Judge, Bexar County Courthouse, 230 North Pecos, Suite 420, San Antonio, Texas 78205 | August 4, 2006 | 480035
Bexar, (FEMA Docket No.: B-7466) | Unincorporated Areas of Bexar County (05-06-A521P) | August 24, 2006; August 31, 2006; Daily Commercial Recorder | The Honorable Nelson W. Wolff, Bexar County Judge, Bexar County Courthouse, 230 North Pecos, Suite 420, San Antonio, Texas 78205 | July 31, 2006 | 480035
Bexar, (FEMA Docket No.: B-7466) | Unincorporated Areas of Bexar County (06-06-A673P) | June 22, 2006; June 29, 2006; Daily Commercial Recorder | The Honorable Nelson W. Wolff, Bexar County Judge, Bexar County Courthouse, 230 North Pecos, Suite 420, San Antonio, Texas 78205 | September 28, 2006 | 480035
Collin, (FEMA Docket No.: B-7466) | City of Frisco (05-06-1675P) | September 8, 2006; September 15, 2006; Frisco Enterprise | The Honorable Mike Simpson, Mayor, City of Frisco, 6891 Main Street, Frisco, Texas 75034 | December 15, 2006 | 480134
Collin, (FEMA Docket No.: B-7466) | City of McKinney (05-06-A318P) | April 20, 2006; April 27, 2006; McKinney Courier-Gazette | The Honorable Bill Whitfield, Mayor, City of McKinney, 222 North Tennessee, McKinney, Texas 75069 | July 27, 2006 | 480135
Collin, (FEMA Docket No.: B-7466) | City of McKinney (06-06-B170P) | August 24, 2006; August 31, 2006; McKinney Courier-Gazette | The Honorable Bill Whitfield, Mayor, City of McKinney, 222 North Tennessee, McKinney, Texas 75069 | November 30, 2006 | 480135
Collin, (FEMA Docket No.: B-7466) | City of Plano (06-06-B005P) | March 16, 2006; March 23, 2006; Plano Star Courier | The Honorable Pat Evans, Mayor, City of Plano, P.O. Box 860358, Plano, Texas 75086-0358 | February 24, 2006 | 480140
Collin, (FEMA Docket No.: B-7466) | City of Plano (06-06-B026P) | July 19, 2006; July 26, 2006; Plano Star Courier | The Honorable Pat Evans, Mayor, City of Plano, P.O. Box 860358, Plano, Texas 75074 | October 25, 2006 | 480140
Denton, (FEMA Docket No.: B-7466) | City of Corinth (05-06-1383P) | March 9, 2006; March 16, 2006; Denton Record-Chronicle | The Honorable Vic Burgess, Mayor, Town of Corinth, 3300 Corinth Street, Corinth, Texas 76205 | June 15, 2006 | 481143
Denton, (FEMA Docket No.: B-7466) | City of Denton (05-06-1383P) | March 9, 2006; March 16, 2006; Denton Record-Chronicle | The Honorable Euline Brock, Mayor, City of Denton, 215 East McKinney Street, Denton, Texas 76201 | June 15, 2006 | 480194
Denton, (FEMA Docket No.: B-7466) | City of Denton (05-06-A100P) | August 10, 2006; August 17, 2006; Denton Record-Chronicle | The Honorable Michael Conduff, Mayor, City of Denton, 215 East McKinney, Denton, Texas 76201 | November 16, 2006 | 480194
Denton, (FEMA Docket No.: B-7466) | City of Lewisville (05-06-0170P) | January 4, 2006; January 11, 2006; Lewisville Leader | The Honorable Gene Carey, Mayor, City of Lewisville, P.O. Box 299002, Lewisville, Texas 75029-9002 | April 12, 2006 | 480195
Denton, (FEMA Docket No.: B-7466) | City of Ponder (06-06-B215P) | July 13, 2006; July 20, 2006; Denton Record Chronicle | The Honorable Vivian Cockburn, Mayor, City of Ponder, P.O. Box 297, Ponder, Texas 76259 | October 19, 2006 | 480784
Denton, (FEMA Docket No.: B-7466) | Unincorporated Areas of Denton County (05-06-A100P) | August 10, 2006; August 17, 2006; Denton Record-Chronicle | The Honorable Mary Horn, Denton County Judge, 110 West Hickory Street, Second Floor, Denton, Texas 76201 | November 16, 2006 | 480774
El Paso, (FEMA Docket No.: B-7466) | Unincorporated Areas of El Paso County (06-06-B324P) | May 11, 2006; May 18, 2006; El Paso Times | The Honorable John Cook, Mayor, City of El Paso, 2 Civic Center Plaza, 10th Floor, El Paso, Texas 79901 | April 17, 2006 | 480214
Fort Bend, (FEMA Docket No.: B-7466) | Fort Bend County M.U.D. No. 23 (06-06-B011P) | May 18, 2006; May 25, 2006; Ford Bend Herald | Ms. Ellen Hughes, District President, Fort Bend County Municipal Utility, District No. 23, 1715 Misty Fawn Lane, Fresno, Texas 77545 | August 24, 2006 | 481590
Galveston, (FEMA Docket No.: B-7466) | City of League City (05-06-1666P) | April 20, 2006; April 27, 2006; The Galveston County Daily News | The Honorable Jerry Shults, Mayor, City of League City, 300 West Walker Street, League City, Texas 77573 | March 31, 2006 | 485488
Gregg & Rusk, (FEMA Docket No.: B-7466) | City of Kilgore (04-06-A011P) | March 24, 2006; March 31, 2006; Kilgore News Herald | The Honorable Joe Parker, Mayor, City of Kilgore, P.O. Box 990, Kilgore, Texas 75663 | June 30, 2006 | 480263
Harris, (FEMA Docket No.: B-7466) | City of Houston (04-06-1460P) | April 6, 2006; April 13, 2006; Houston Chronicle | The Honorable Bill White, Mayor, City of Houston, P.O. Box 1562, Houston, Texas 77251 | July 6, 2006 | 480296
Harris, (FEMA Docket No.: B-7466) | Unincorporated Areas of Harris County (04-06-1460P) | April 6, 2006; April 13, 2006; Houston Chronicle | The Honorable Robert Eckels, Harris County Judge, 1001 Preston, Suite 911, Houston, Texas 77002 | July 6, 2006 | 480287
Lubbock, (FEMA Docket No.: B-7466) | City of Lubbock (05-06-1480P) | March 30, 2006; April 6, 2006; Lubbock Avalanche-Journal | The Honorable Mark McDougal, Mayor, City of Lubbock, P.O. Box 2000, Lubbock, Texas 79457 | March 1, 2006 | 480452
Lubbock, (FEMA Docket No.: B-7466) | City of Lubbock (05-06-1579P) | January 12, 2006; January 19, 2006; Lubbock Avalanche-Journal | The Honorable Mark McDougal, Mayor, City of Lubbock, P.O. Box 2000, Lubbock, Texas 79457 | December 28, 2005 | 480452
Tarrant, (FEMA Docket No.: B-7466) | City of Fort Worth (05-06-0796P) | December 22, 2005; December 29, 2005; Fort Worth Star-Telegram | The Honorable Michael J. Moncrief, Mayor, City of Fort Worth, 10000 Throckmorton Street, Fort Worth, Texas 76102 | December 13, 2005 | 480596
Tarrant, (FEMA Docket No.: B-7466) | City of Fort Worth (05-06-1757P) | January 12, 2006; January 19, 2006; Fort Worth Star-Telegram | The Honorable Michael J. Moncrief, Mayor, City of Fort Worth, 10000 Throckmorton Street, Fort Worth, Texas 76102 | December 28, 2005 | 480596
Tarrant, (FEMA Docket No.: B-7466) | City of Fort Worth (05-06-A171P) | March 16, 2006; March 23, 2006; Fort Worth Star-Telegram | The Honorable Michael J. Moncrief, Mayor, City of Fort Worth, 10000 Throckmorton Street, Fort Worth, Texas 76102 | February 28, 2006 | 480596
Travis, (FEMA Docket No.: B-7466) | City of Austin (05-06-0770P) | April 27, 2006; May 4, 2006; Austin American-Statesman | The Honorable Will Wynn, Mayor, City of Austin, P.O. Box 1088, Austin, Texas 78767 | August 3, 2006 | 480624
Travis, (FEMA Docket No.: B-7466) | City of Austin (04-06-1466P) | July 13, 2006; July 20, 2006; Austin American-Statesman | The Honorable Will Wynn, Mayor, City of Austin, P.O. Box 1088, Austin, Texas 78767 | October 19, 2006 | 480624
Travis, (FEMA Docket No.: B-7466) | City of Austin (05-06-A445P) | June 15, 2006; June 22, 2006; Austin American-Statesman | The Honorable Will Wynn, Mayor, City of Austin, City Hall, 301 West Second Street, Second Floor, Austin, Texas 78767 | September 21, 2006 | 480624
Travis, (FEMA Docket No.: B-7466) | City of Pflugerville (05-06-0397P) | March 30, 2006; April 6, 2006; Austin American-Statesman | The Honorable Catherine T. Callen, Mayor, City of Pflugerville, P.O. Box 589, Pflugerville, Texas 78691 | March 15, 2006 | 481028
Travis, (FEMA Docket No.: B-7466) | Unincorporated Areas of Travis County (05-06-0770P) | April 27, 2006; May 4, 2006; Austin American-Statesman | The Honorable Samuel T. Biscoe, Travis County Judge, 314 West 11th Street, #520, Austin, Texas 78701 | August 3, 2006 | 481026
Vermont:
Windsor, (FEMA Docket No.: B-7466) | Town of Woodstock (05-01-0727P) | June 22, 2006; June 29, 2006; Valley News | The Honorable Philip Swanson, Mayor, Town of Woodstock, Woodstock Town Hall, 29 The Green, Woodstock, Vermont 05091 | September 28, 2006 | 500160
Virginia:
Fauquier, (FEMA Docket No.: B-7466) | Town of Warrenton (05-03-A447P) | August 23, 2006; August 30, 2006; Fauquier Times | The Honorable George B. Fitch, Mayor, Town of Warrenton, 18 Court Street, Warrenton, Virginia 20186 | November 30, 2006 | 510057
Fauquier, (FEMA Docket No.: B-7466) | Unincorporated Areas of Fauquier County (04-03-A019P) | December 29, 2005; January 5, 2006; The Fauquier Citizen | The Honorable Raymond E. Graham, Chairman, Fauquier County, Board of Supervisors, 10 Hotel Street, Suite 208, Warrenton, Virginia 20186 | April 6, 2006 | 510055
Henry, (FEMA Docket No.: B-7474) | Unincorporated areas of Henry County (07-03-0087X) | October 27, 2006; November 3, 2006; Martinsville Bulletin | Mr. Benny Summerlin, County Administrator, Henry County, P.O. Box 7, Collinsville, VA 24078 | November 22, 2006 | 510078
Independent City, (FEMA Docket No.: B-7466) | City of Fairfax (04-03-A027P) | April 13, 2006; April 20, 2006; Fairfax Connection Newspapers | The Honorable Robert F. Lederer, Mayor, City of Fairfax, City Hall, 10455 Armstrong Street, Fairfax, Virginia 22030-3630 | July 20, 2006 | 515524
Loudoun, (FEMA Docket No.: B-7466) | Unincorporated Areas of Loudoun County (05-03-0412P) | August 16, 2006; August 23, 2006; Loudoun Times Mirror | The Honorable Scott K. York, Chairman, Loudoun County, Board of Supervisors, One Harrison Street Southeast, Leesburg, Virginia 20177-7000 | July 25, 2006 | 510090
Loudoun, (FEMA Docket No.: B-7466) | Unincorporated Areas of Loudoun County (05-03-A388P) | May 3, 2006; May 10, 2006; Loudoun Times | The Honorable Scott K. York, Chairman, Loudoun County, Board of Supervisors, P.O. Box 7000, Leesburg, Virginia 20177-7000 | August 9, 2006 | 510090
Rockbridge, (FEMA Docket No.: B-7466) | City of Lexington (05-03-0901P) | August 23, 2006; August 30, 2006; Rockbridge Weekly | The Honorable John Knapp, Mayor, City of Lexington, 300 East Washington Street, Lexington, Virginia 24450 | August 7, 2006 | 510089
Stafford, (FEMA Docket No.: B-7466) | Unincorporated Areas of Stafford County (05-03-0456P) | June 16, 2006; June 23, 2006; Stafford County Sun | Mr. R. Steve Crosby, County Administrator, Stafford County, P.O. Box 339, Stafford, Virginia 22555-0339 | May 10, 2006 | 510154
Washington:
King, (FEMA Docket No.: B-7466) | City of Issaquah (06-10-B008P) | February 22, 2006; March 1, 2006; Issaquah Press | The Honorable Ava Frisinger, Mayor, City of Issaquah, P.O. Box 1307, Issaquah, Washington 98027 | May 31, 2006 | 530079
Walla Walla, (FEMA Docket No.: B-7466) | Unincorporated Areas of Walla Walla County (05-10-0491P) | August 17, 2006; August 24, 2006; The Times | The Honorable David G. Carey, Chairman, Walla Walla County, Board of Commissioners, P.O. Box 1506, Walla Walla, Washington 99362 | November 23, 2006 | 530194
Whatcom, (FEMA Docket No.: B-7466) | City of Bellingham (05-10-0554P) | April 20, 2006; April 27, 2006; The Bellingham Herald | The Honorable Mark Asmundson, Mayor, City of Bellingham, Bellingham City Hall, Second Floor, 210 Lottie Street, Bellingham, Washington 98225 | July 13, 2006 | 530199
Yakima, (FEMA Docket No.: B-7466) | City of Toppenish (06-10-B462P) | November 2, 2006; November 9, 2006; Yakima Herald-Republic | The Honorable Bill Rogers, Mayor, City of Toppenish, Toppenish City Hall, 21 West First Avenue, Toppenish, Washington 98948 | December 14, 2006 | 530228

(Catalog of Federal Domestic Assistance No. 83.100, “Flood Insurance.”)

Dated: March 26, 2007.
David I. Maurstad,
Director, Mitigation Division, Federal Emergency Management Agency, Department of Homeland Security.

[FR Doc. E7-7009 Filed 4-12-07; 8:45 am]

BILLING CODE 9110-12-P